DEPARTMENT OF COMMERCE

National Oceanic and Atmospheric Administration

RIN 0648-XV22

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Habitat Committee, Advisory Panel and Plan Development Team in April, 2010 to consider actions affecting New England fisheries in the exclusive economic zone (EEZ). Recommendations from this group will be brought to the full Council for formal consideration and action, if appropriate.

DATES: This meeting will be held on Thursday, April 1, 2010 at 9 a.m. and Friday, April 2, 2010 at 9 a.m.

ADDRESSES: This meeting will be held at the Seaport World Trade Center, 200 Seaport Boulevard, Boston, MA 02210; telephone: (617) 385-5000; fax: (617) 385-5090.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The purpose of this meeting is to review implementation and outputs of the Swept Area Seabed impact (SASI) model, and then to discuss and recommend management alternatives based on model outputs. Committee motions on alternatives for analysis in EFH Omnibus Amendment 2 DEIS will be solicited by the Committee Chair on the second day of the meeting. The meeting will include: PDT presentation on the components and implementation of the SASI model; PDT presentation of general model outputs; PDT presentation of model outputs specified to address previous committee tasking; group discussion of possible EFH impacts minimization alternatives and Committee motions related to inclusion of alternatives in the DEIS. Other issues may be raised at the Committee Chair's discretion.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: March 11, 2010.
Tracey L. Thompson,
Acting Director, Office of Sustainable Fisheries, National Marine Fisheries Service.

[FR Doc. 2010-5722 Filed 3-15-10; 8:45 am]

BILLING CODE 3510-22-S